DEPARTMENT OF JUSTICE

Antitrust Division

Notice Pursuant to the National Cooperative Research and Production Act of 1993—Marine Well Containment Venture

Notice is hereby given that, on September 29, 2010, pursuant to Section 6(a) of the National Cooperative Research and Production Act of 1993, 15 U.S.C. 4301 et seq. (“the Act”), Marine Well Containment Venture (“MWCV”) has filed written notifications simultaneously with the Attorney General and the Federal Trade Commission disclosing changes in its membership. The notifications were filed for the purpose of extending the Act's provisions limiting the recovery of antitrust plaintiffs to actual damages under specified circumstances. Specifically, new entities are now participating in the MWCV. Pursuant to Section 6(b) of the Act, the identities of the new entities participating in the venture are: Chevron Gulf of Mexico Response Co. LLC, Houston, TX; ConocoPhillips Marine Containment Holdings Co. LLC, Houston, TX; ExxonMobil Offshore Well Containment LLC, Houston, TX; and Shell Offshore Response Co. LLC, Houston, TX.

No other changes have been made in either the membership or planned activity of the venture. The composition of members in this venture may change, and MWCV intends to file additional written notifications disclosing all changes in membership.

On August 18, 2010, MWCV filed its original notification pursuant to Section 6(a) of the Act. The Department of Justice published a notice in the Federal Register pursuant to Section 6(b) of the Act on October 12, 2010 (75 FR 62570).

Patricia A. Brink,
Deputy Director of Operations Antitrust Division.

[FR Doc. 2010-28558 Filed 11-12-10; 8:45 am]

BILLING CODE 4410-11-M